DEPARTMENT OF TRANSPORTATION

Federal Aviation Administration

14 CFR Part 39

[Docket No. FAA-2005-22384; Directorate Identifier 2005-NM-131-AD; Amendment 39-14412; AD 2005-25-19]

RIN 2120-AA64

Airworthiness Directives; Airbus Model A300 B2 Series Airplanes, Model A300 B4 Series Airplanes, Model A310-200 Series Airplanes, Model A310-300 Series Airplanes; and Model A300 B4-600, B4-600R, and F4-600R Series Airplanes, and Model C4-605R Variant F Airplanes (Collectively Called A300-600 Series Airplanes)

AGENCY: Federal Aviation Administration (FAA), Department of Transportation (DOT).

ACTION: Final rule.

SUMMARY: The FAA is adopting a new airworthiness directive (AD) for certain Airbus transport category airplanes. This AD requires repetitive eddy current inspections for cracks of the stiffener fittings of the fuselage at frame (FR) 12A, and corrective actions if necessary. This AD also provides a terminating action for the inspections. This AD results from reports of cracks on the upper attachment fitting of the stiffener fitting at FR12A. We are issuing this AD to prevent failure of the stiffener fittings, which could result in the reduced structural integrity of the floor and rods around FR 12A.

DATES: This AD becomes effective January 18, 2006.

The Director of the Federal Register approved the incorporation by reference of certain publications listed in the AD as of January 18, 2006.

ADDRESSES: You may examine the AD docket on the Internet at http://dms.dot.gov or in person at the Docket Management Facility, U.S. Department of Transportation, 400 Seventh Street, SW., Nassif Building, room PL-401, Washington, DC.

Contact Jacques Leborgne, Airbus Customer Service Directorate, 1 Rond Point Maurice Bellonte, 31707 Blagnac Cedex, France, fax (+33) 5 61 93 36 14, for service information identified in this AD for Model A300 B2 series airplanes and Model A300 B4 series airplanes. Contact Airbus, 1 Rond Point Maurice Bellonte, 31707 Blagnac Cedex, France, for service information identified in this AD for Model A310-200 series airplanes, Model A310-300 series airplanes, and Model A300-600 series airplanes.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus transport category airplanes. That NPRM was published in the Federal Register on September 12, 2005 (70 FR 53739). That NPRM proposed to require repetitive eddy current inspections for cracks of the stiffener fittings of the fuselage at frame (FR) 12A, and corrective actions if necessary. The NPRM also provided a terminating action for the inspections.

Comments

We provided the public the opportunity to participate in the development of this AD. We received no comments on the NPRM or on the determination of the cost to the public.

Clarification of Alternative Method of Compliance (AMOC) Paragraph

We have revised this action to clarify the appropriate procedure for notifying the principal inspector before using any approved AMOC on any airplane to which the AMOC applies.

Conclusion

We have carefully reviewed the available data and determined that air safety and the public interest require adopting the AD with the change described previously. We have determined that this change will neither increase the economic burden on any operator nor increase the scope of the AD.

Costs of Compliance

This AD will affect about 202 airplanes of U.S. registry. The inspection will take between 57 and 64 work hours per airplane, at an average labor rate of $65 per work hour. Based on these figures, the estimated cost of the inspection for U.S. operators is between $748,410 and $840,320, or between $3,705 and $4,160 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-25-19 Airbus: Amendment 39-14412. Docket No. FAA-2005-22384; Directorate Identifier 2005-NM-131-AD.

Effective Date

(a) This AD becomes effective January 18, 2006.

Affected ADs

(b) None.

Applicability

(c) This AD applies to Airbus Model A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; Model A300 C4-605R Variant F airplanes; Model A310-203, -204, -221, and -222 airplanes; and Model A310-304, -322, -324, and -325 airplanes; certificated in any category; except for airplanes on which Airbus Modification 12662 has been done in production.

Unsafe Condition

(d) This AD results from reports of cracks on the upper attachment fitting of the stiffener fitting at frame (FR) 12A. We are issuing this AD to prevent failure of the stiffener fittings, which could result in the reduced structural integrity of the floor and rods around FR12A.

Compliance

(e) You are responsible for having the actions required by this AD performed within the compliance times specified, unless the actions have already been done.

Inspections

(f) At the applicable initial inspection threshold specified in Table 1 of this AD or within the applicable grace period specified in Table 2 of this AD, whichever occurs later: Do an eddy current inspection for cracks of the stiffener fittings of the fuselage at FR 12A, in accordance with the Accomplishment Instructions of Airbus Service Bulletin A300-53-0365, Revision 01 (for Model A300 B2-1A, B2-1C, B2K-3C, and B2-203 airplanes, and Model A300 B4-2C, B4-103, and B4-203 airplanes); Airbus Service Bulletin A300-53-6138, Revision 01 (for Model A300 B4-601, B4-603, B4-620, and B4-622 airplanes, Model A300 B4-605R and B4-622R airplanes, Model A300 F4-605R and F4-622R airplanes, and Model A300 C4-605R Variant F airplanes); or Airbus Service Bulletin A310-53-2117, Revision 01 (for Model A310-203, -204, -221, and -222 airplanes, and Model A310-304, -322, -324, and -325 airplanes); all dated April 4, 2005; as applicable. Repeat the inspection thereafter at intervals not to exceed the applicable compliance time specified in Table 1 of this AD until the actions specified in paragraph (h) of this AD are done.

Table 1.—Compliance Times for Initial and Repetitive Inspections
For airplanes identified as— | Do the initial inspection prior to the accumulation of— | And repeat at intervals not to exceed—
Configuration 01 in Airbus Service Bulletin A300-53-0365, Revision 01, dated April 4, 2005 | 19,300 total flight cycles | 11,450 flight cycles.
Configuration 02 in Airbus Service Bulletin A300-53-0365, Revision 01, dated April 4, 2005 | 15,500 total flight cycles | 9,200 flight cycles.
Configuration 01 in Airbus Service Bulletin A300-53-6138, Revision 01, dated April 4, 2005 | 19,300 total flight cycles | 11,450 flight cycles.
Configuration 02 in Airbus Service Bulletin A300-53-6138, Revision 01, dated April 4, 2005 | 17,600 total flight cycles | 11,450 flight cycles.
Configuration 03 in Airbus Service Bulletin A300-53-6138, Revision 01, dated April 4, 2005 | 12,700 total flight cycles | 8,000 flight cycles.
Configuration 04 in Airbus Service Bulletin A300-53-6138, Revision 01, dated April 4, 2005 | 10,200 total flight cycles | 6,400 flight cycles.
Configuration 01 in Airbus Service Bulletin A310-53-2117, Revision 01, dated April 4, 2005 | 19,300 total flight cycles | 11,450 flight cycles.
Configuration 02 in Airbus Service Bulletin A310-53-2117, Revision 01, dated April 4, 2005 | 17,600 total flight cycles | 11,450 flight cycles.
Configuration 03 in Airbus Service Bulletin A310-53-2117, Revision 01, dated April 4, 2005 | 12,700 total flight cycles | 8,000 flight cycles.

Table 2.—Grace Period for the Initial Inspection
For Airbus Model— | Grace period is—
A300 B2-1A, B2-1C, B2K-3C, and B2-203 airplanes | Within 2,500 flight cycles after the effective date of this AD.
A300 B4-2C, B4-103, and B4-203 airplanes; A300 B4-601, B4-603, B4-620, and B4-622 airplanes; A300 B4-605R and B4-622R airplanes; A300 F4-605R and F4-622R airplanes; A300 C4-605R Variant F airplanes; A310-203, -204, -221, and -222 airplanes; and A310-304, -322, -324, and -325 airplanes | Within 2,000 flight cycles after the effective date of this AD.

Corrective Action

(g) If any cracking is found during any inspection required by paragraph (f) of this AD, before further flight, do the replacement and installation specified in paragraph (h) of this AD.

Terminating Action

(h) Replacing the existing fitting on FR12A with a FR12A crossbeam and installing a new web between FR12A and FR13 at stringer 26 in accordance with Airbus Service Bulletin A300-53-0364, Revision 02, dated September 24, 2004 (for Model A300 B2-1A, B2-1C, B2K-3C, and B2-203 airplanes, and Model A300 B4-2C, B4-103, and B4-203 airplanes); Airbus Service Bulletin A300-53-6137, Revision 03, dated April 4, 2005 (for Model A300 B4-601, B4-603, B4-620, and B4-622 airplanes, Model A300 B4-605R and B4-622R airplanes, Model A300 F4-605R and F4-622R airplanes, and Model A300 C4-605R Variant F airplanes); or Airbus Service Bulletin A310-53-2116, Revision 02, dated September 24, 2004 (for Model A310-203, -204, -221, and -222 airplanes, and Model A310-304, -322, -324, and -325 airplanes); as applicable; and except as required by paragraph (i) of this AD; constitutes terminating action for the requirements of this AD.

(i) Where the service bulletins specify to contact the manufacturer for certain information, before further flight, do the terminating action according to a method approved by either the Manager, International Branch, ANM-116, Transport Airplane Directorate, FAA; or the DGAC (or its delegated agent).

Actions Accomplished According to Previous Issue of Service Bulletin

(j) Actions accomplished before the effective date of this AD according to the Airbus service bulletins specified in Table 3 of this AD are considered acceptable for compliance with the corresponding actions specified in this AD.

Table 3.—Previous Issues of Service Bulletins
Airbus Service Bulletin | Revision level | Date
A300-53-0364 | Original | December 1, 2003.
A300-53-0364 | 01 | May 5, 2004.
A300-53-0365 | Original | December 1, 2003.
A300-53-6137 | Original | December 1, 2003.
A300-53-6137 | 01 | May 5, 2004.
A300-53-6137 | 02 | September 24, 2004.
A300-53-6138 | Original | December 1, 2003.
A310-53-2116 | Original | December 1, 2003.
A310-53-2116 | 01 | May 5, 2004.
A310-53-2117 | Original | December 1, 2003.

No Reporting Required

(k) Although the service bulletins referenced in this AD specify to submit certain information to the manufacturer, this AD does not include that requirement.

Alternative Methods of Compliance (AMOCs)

(l)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(m) French airworthiness directive F-2005-084, dated May 25, 2005, also addresses the subject of this AD.

Material Incorporated by Reference

(n) You must use the service information listed in Table 4 of this AD to perform the actions that are required by this AD, unless the AD specifies otherwise. The Director of the Federal Register approved the incorporation by reference of these documents in accordance with 5 U.S.C. 552(a) and 1 CFR part 51. Contact Jacques Leborgne, Airbus Customer Service Directorate, 1 Rond Point Maurice Bellonte, 31707 Blagnac Cedex, France, fax (+33) 5 61 93 36 14, for service information identified in this AD for Airbus Model A300 B2-1A, B2-1C, B2K-3C, and B2-203 airplanes; and Airbus Model A300 B4-2C, B4-103, and B4-203 airplanes. Contact Airbus, 1 Rond Point Maurice Bellonte, 31707 Blagnac Cedex, France, for service information identified in this AD for Airbus Model A300 B4-601, B4-603, B4-620, and B4-622 airplanes; Airbus Model A300 B4-605R and B4-622R airplanes; Airbus Model A300 F4-605R and F4-622R airplanes; Airbus Model A300 C4-605R Variant F airplanes; Model A310-203, -204, -221, and -222 airplanes; and Airbus Model A310-304, -322, -324, and -325 airplanes. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 4.—Material Incorporated by Reference
Airbus Service Bulletin | Revision level | Date
A300-53-0364 | 02 | September 24, 2004.
A300-53-0365, excluding Appendix 01 | 01 | April 4, 2005.
A300-53-6137 | 03 | April 4, 2005.
A300-53-6138, excluding Appendix 01 | 01 | April 4, 2005.
A310-53-2116 | 02 | September 24, 2004.
A310-53-2117, excluding Appendix 01 | 01 | April 4, 2005.

Issued in Renton, Washington, on December 2, 2005.
Kalene C. Yanamura,
Acting Manager, Transport Airplane Directorate, Aircraft Certification Service.

[FR Doc. 05-23900 Filed 12-13-05; 8:45 am]

BILLING CODE 4910-13-P